DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than March 5, 2009.

Interested persons are invited to submit written comments regarding the subject matter of the investigations to the Director, Division of Trade Adjustment Assistance, at the address shown below, not later than March 5, 2009.

The petitions filed in this case are available for inspection at the Office of the Director, Division of Trade Adjustment Assistance, Employment and Training Administration, U.S. Department of Labor, Room N-5428, 200 Constitution Avenue, NW., Washington, DC 20210.

Signed at Washington, DC, this 13th day of February 2009.
Linda G. Poole,
Certifying Officer, Division of Trade Adjustment Assistance.

Appendix—TAA Petitions Instituted Between 1/26/09 and 1/30/09
TA-W | Subject firm (petitioners) | Location | Date of institution | Date of petition
64984 | Gulistan Carpet (Comp) | Turnersburg, NC | 01/26/09 | 01/23/09
64985 | JCIM, LLC (UAW) | Wauseon, OH | 01/26/09 | 01/22/09
64986 | Dana Corporation (Wkrs) | Owensboro, KY | 01/26/09 | 01/15/09
64987 | Veyance Technologies, Inc. (State) | Lincoln, NE | 01/26/09 | 01/23/09
64988 | Source Northwest, Inc. (Comp) | Woodinville, WA | 01/26/09 | 01/22/09
64989 | Carter Furniture of Salisbury (Comp) | Salisbury, NC | 01/26/09 | 01/15/09
64990 | LexisNexis (Wkrs) | Colorado Springs, CO | 01/26/09 | 01/22/09
64991 | Genie Industries, Inc. (Wkrs) | Redmond, WA | 01/26/09 | 01/23/09
64992 | AK Steel (Wkrs) | Butler, PA | 01/26/09 | 01/23/09
64993 | TTM Technologies (Comp) | Redmond, WA | 01/26/09 | 01/23/09
64994 | Clear Lake Lumber, Inc. (Wkrs) | Spartansburg, PA | 01/26/09 | 01/23/09
64995 | Alleghany Warehouse Company (Comp) | Richmond, VA | 01/26/09 | 01/23/09
64996 | Rebco, Inc. (Comp) | Kersey, PA | 01/26/09 | 01/22/09
64997 | Los Angeles Times Communications (Wkrs) | Los Angeles, CA | 01/26/09 | 01/23/09
64998 | Oce Business Services (Wkrs) | Bountiful, UT | 01/26/09 | 01/21/09
64999 | Twin Hills, Inc. (Wkrs) | Hickory, KY | 01/26/09 | 01/23/09
65000 | ConMed Electrosurgery (Comp) | El Paso, TX | 01/27/09 | 12/29/08
65001 | Brunswick Corporation/US Marine (Comp) | Navassa, NC | 01/27/09 | 01/27/09
65002 | Gerald Keller Logging (State) | Eureka, MT | 01/27/09 | 01/15/09
65003 | Neptco (Comp) | Lenoir, NC | 01/27/09 | 01/16/09
65004 | PMB, Inc. (Comp) | Poplar Bluff, MO | 01/27/09 | 01/26/09
65005 | Seagate (Comp) | Shrewsbury, MA | 01/27/09 | 01/14/09
65006 | Warren Corporation (State) | Stafford Springs, CT | 01/27/09 | 01/26/09
65007 | Herringbone Shirt Manufacturing Co., LLC (Comp) | Fall River, MA | 01/27/09 | 01/26/09
65008 | Modern Industries, Inc. (Comp) | Erie, PA | 01/27/09 | 01/26/09
65009 | Lin Creech Sample (State) | Thomasville, NC | 01/29/09 | 01/15/09
65010 | North American Communications (Wkrs) | Duncansville, PA | 01/29/09 | 01/14/09
65011 | Chase Auto Finance Corporation (Wkrs) | Garden City, NY | 01/29/09 | 01/27/09
65012 | Mothers Work, Inc./Destination Maternity (Wkrs) | Philadelphia, PA | 01/29/09 | 01/21/09
65013 | Axcelis Technologies (Wkrs) | Portland, OR | 01/29/09 | 01/21/09
65014 | Ralphs Frame Works, Inc. (State) | High Point, NC | 01/29/09 | 01/26/09
65015 | Julie Hat Company, Inc. (Comp) | Patterson, GA | 01/29/09 | 01/21/09
65016 | M. J. Soffe, LLC (Comp) | Fayetteville, NC | 01/29/09 | 01/28/09
65017 | Bianchi International (Wkrs) | Temecula, CA | 01/29/09 | 01/07/09
65018 | National Vaccum Equipment (State) | Traverse City, MI | 01/29/09 | 01/23/09
65019 | Delphi Corporation (Comp) | Troy, MI | 01/29/09 | 01/27/09
65020 | Flash Electronic/Astee Flash (State) | Fremont, CA | 01/29/09 | 01/28/09
65021 | Ecolab (State) | St. Paul, MN | 01/29/09 | 01/27/09
65022 | HS Spring of Ohio (Wkrs) | Jefferson, OH | 01/29/09 | 01/27/09
65023 | Silberline Manufacturing Company, Inc. (Comp) | Tamaqua, PA | 01/29/09 | 01/27/09
65024 | Printronix (Comp) | Irvine, CA | 01/29/09 | 01/27/09
65025 | A. O. Smith Corporation (Comp) | Mebane, NC | 01/29/09 | 01/09/09
65026 | ADO Corporation (State) | Spartanburg, SC | 01/29/09 | 01/26/09
65027 | Davis-Standard LLC (State) | Pawcatuck, CT | 01/29/09 | 01/27/09
65028 | Team Industries, Inc. (State) | Detroit Lakes, MN | 01/29/09 | 01/28/09
65029 | Comau Automation (Union) | Novi, MI | 01/29/09 | 01/15/09
65030 | Circuit Science (State) | Plymouth, MN | 01/29/09 | 01/28/09
65031 | King Choice (UNITE) | New York, NY | 01/29/09 | 01/14/09
65032 | Prior Coated Metals (USW) | Allentown, PA | 01/29/09 | 01/13/09
65033 | Worthington Steel (Comp) | Louisville, KY | 01/29/09 | 01/29/09
65034 | ArcelorMittal Lackawanna, LLC (Comp) | Blasdell, NY | 01/29/09 | 01/22/09
65035 | Align Technology (Comp) | Santa Clara, CA | 01/29/09 | 01/27/09
65036 | Oviso Manufacturing (94520) | Concord, CA | 01/29/09 | 01/26/09
65037 | Chrysler Warren Truck Plant (Comp) | Warren, MI | 01/29/09 | 01/21/09
65038 | Koch Originals (Wkrs) | Evansville, IN | 01/29/09 | 01/16/09
65039 | Elcoteq, Inc. (Wkrs) | Richardson, TX | 01/30/09 | 01/29/09
65040 | New N&W Sewing Company (Wkrs) | San Francisco, CA | 01/30/09 | 01/16/09
65041 | Alcatel-Lucent/Carrier-Multicore/Classic (SSG group) (Wkrs) | Plano, TX | 01/30/09 | 01/26/09
65042 | Craftwood, Inc. (Wkrs) | High Point, NC | 01/30/09 | 01/29/09
65043 | Daramic, LLC (IBB) | Owensboro, KY | 01/30/09 | 01/09/09
65044 | Pittsburg Glass Works #23 (PGW) (Wkrs) | Evart, MI | 01/30/09 | 01/15/09
65045 | Parkdale America, LLC—Plant #10 (Comp) | Gastonia, NC | 01/30/09 | 01/26/09
65046 | Detroit Diesel Remanufacturing East (Comp) | Byesville, OH | 01/30/09 | 01/29/09
65047 | Gehl Company (State) | West Bend, WI | 01/30/09 | 01/28/09
65048 | United Machine Works, Inc. (Comp) | Greenville, NC | 01/30/09 | 01/16/09
65049 | Entegris Corporation (State) | Chaska, MN | 01/30/09 | 01/29/09
65050 | Ball Corporation (Wkrs) | Kansas City, MO | 01/30/09 | 01/13/09
65051 | Tyco Electronics (Wkrs) | Carlisle, PA | 01/30/09 | 01/29/09
65052 | General Motors Assembly Center (Union) | Wentzville, MO | 01/30/09 | 01/29/09
65053 | Tenneco, Inc. (Wkrs) | Hartwell, GA | 01/30/09 | 01/29/09
65054 | GE Security Supply Chain Tualatin (Comp) | Tualatin, OR | 01/30/09 | 01/29/09
| National Copper Products, Inc. (UAW) | Dowagiac, MI | 01/30/09 | 01/27/09

[FR Doc. E9-3724 Filed 2-20-09; 8:45 am]

BILLING CODE 4510-FN-P